DEPARTMENT OF HOMELAND SECURITY

U.S. Immigration and Customs Enforcement

[OMB Control Number 1653-NEW]

Agency Information Collection Activities: New Collection: Flight Manifest/Billing Agreement

AGENCY: U.S. Immigration and Customs Enforcement, Department of Homeland Security.

ACTION: 30-Day notice.

SUMMARY: In accordance with the Paperwork Reductions Act (PRA) of 1995, U.S. Immigration and Customs Enforcement (ICE), the Department of Homeland Security (DHS), will submit the following Information Collection Request (ICR) to the Office of Management and Budget (OMB) for review and clearance. This information collection was previously published in the Federal Register on April 27, 2021, allowing for a 60-day comment period. The purpose of this notice is to allow an additional 30 days for public comments.

DATES: Comments are encouraged and will be accepted until August 9, 2021.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: For specific questions related to collection activities, please contact Lois J. Burrows, Office of the Chief Financial Officer, 202-732-4812, email: lois.j.burrows@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Flight Manifest/Billing Agreement.

(3) Agency form number, if any, and the applicable component of the Department of Homeland Security sponsoring the collection: U.S. Immigration and Customs Enforcement.

(4) Affected public who will be asked or required to respond, as well as a brief abstract: Primary: Individuals or households. The Flight Manifest/Billing Agreement collects information for the purpose of confirming Space Available passengers on any ICE-chartered flight and to facilitate the effective billing of those passengers for the full coach fare of their seats on the flight.

(5) An estimate of the total number of respondents: The estimated total number of respondents for this information collection is 250 and the estimated hour burden per response is .25 hours.

(6) An estimate of the total public burden (in hours) associated with the collection: The estimated annual burden is 63 hours.

Dated: July 6, 2021.
Scott Elmore,
PRA Clearance Officer.

[FR Doc. 2021-14633 Filed 7-8-21; 8:45 am]

BILLING CODE 9111-28-P